DEPARTMENT OF HEALTH AND HUMAN SERVICES

Centers for Disease Control and Prevention

Disease, Disability, and Injury Prevention and Control Special Emphasis Panels (SEP): Developing Methodologies To Determine the Prevalence of Autism Spectrum Disorders in Early Childhood and Young Adult Populations, RFA DD-06-001

In accordance with Section 10(a)(2) of the Federal Advisory Committee Act (Pub. L. 92-463), the Centers for Disease Control and Prevention (CDC) announces the following meeting:

Name: Disease, Disability, and Injury Prevention and Control Special Emphasis Panel (SEP): Developing Methodologies to Determine the Prevalence of Autism Spectrum Disorders in Early Childhood and Young Adult Populations, RFA DD-06-001.

Time and Date: 8 a.m.-5 p.m., March 15, 2006 (Closed).

Place: Centers for Disease Control and Prevention, 1600 Clifton Road, NE., Building 19, Room 254/255, Atlanta, GA 30333, Telephone Number 404-639-3138.

Status: The meeting will be closed to the public in accordance with provisions set forth in Section 552b(c) (4) and (6), Title 5 U.S.C., and the Determination of the Director, Management Analysis and Services Office, CDC, pursuant to Public Law 92-463.

Matters To Be Discussed: The meeting will include the review, discussion, and evaluation of applications received in response to: Developing Methodologies to Determine the Prevalence of Autism Spectrum Disorders in Early Childhood and Young Adult Populations, RFA DD-06-001.

For More Information Contact: M. Chris Langub, Ph.D., Scientific Review Administrator, Office of Public Health Research, CDC, 1600 Clifton Road, NE., Mailstop D-72, Atlanta, GA 30333, Telephone 404-639-4640.

The Director, Management Analysis and Services Office, has been delegated the authority to sign Federal Register notices pertaining to announcements of meetings and other committee management activities, for both CDC and the Agency for Toxic Substances and Disease Registry.

Dated: February 9, 2006.
Alvin Hall,
Director, Management Analysis and Services Office, Centers for Disease Control and Prevention.

[FR Doc. E6-2138 Filed 2-14-06; 8:45 am]

BILLING CODE 4163-18-P